CORPORATION FOR NATIONAL AND COMMUNITY SERVICE

Agency Information Collection Activities; Comment Request; AmeriCorps Climate Corps Recruitment Form

AGENCY: Corporation for National and Community Service.

ACTION: Notice of information collection; request for comment.

SUMMARY: In accordance with the Paperwork Reduction Act of 1995, the Corporation for National and Community Service (operating as AmeriCorps) is proposing a new information collection.

DATES: Written comments must be submitted to the individual and office listed in the ADDRESSES section by May 14, 2024.

ADDRESSES: You may submit comments, identified by the title of the information collection activity, by any of the following methods:

(1) Electronically through www.regulations.gov (preferred method).

(2) By mail sent to AmeriCorps, Attention: Kelsey Gerber, 250 E Street SW, Washington, DC 20525.

(3) By hand delivery or courier to the AmeriCorps mailroom at the mail address in paragraph (2) above between 9 a.m. and 4 p.m. Eastern Time, Monday through Friday, except Federal holidays.

Comments submitted in response to this notice may be made available to the public through regulations.gov. For this reason, please do not include in your comments information of a confidential nature, such as sensitive personal or proprietary information. If you send an email comment, your email address will be automatically captured and included as part of the comment, placed in the public docket, and made available on the internet. Please note that responses to this public comment request containing any routine notice about the confidentiality of the communication are treated as public comments and may be made available to the public, notwithstanding the inclusion of the standard notice.

FOR FURTHER INFORMATION CONTACT: Kelsey Gerber, 202-967-5659, or by email at kgerber@americorps.gov.

SUPPLEMENTARY INFORMATION:

Title of Collection: AmeriCorps Climate Corps Recruitment Form.

OMB Control Number: TBD. Type of Review: New.

Respondents/Affected Public: Businesses and organizations and State, local, or Tribal governments.

Total Estimated Number of Annual Responses: 300.

Total Estimated Number of Annual Burden Hours: 200.

Abstract: ACC.gov will be a recruitment portal where AmeriCorps Climate Corps programs can post information about their service opportunities, such as what the service opportunity will be, where it will occur, and how much it will pay. The website's intent is for the public to see all available AmeriCorps Climate Corps service opportunities in one central location and to review a description of the activity and information about the AmeriCorps Climate Corps program. If a member of the public would like to apply, they can follow a link posted on the service opportunity page, which will take them to the program's application. ACC.gov will not include an application to serve. ACC.gov will streamline the AmeriCorps Climate Corps' ability to reach a wider audience of applicants, aiming to increase participation in AmeriCorps Climate Corps programs and make it substantially easier for the public to find opportunities to serve.

Comments submitted in response to this notice will be summarized and included in the request for OMB approval. AmeriCorps invites comments on (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources people spend to generate, maintain, retain, disclose, or provide information to or for a Federal agency. Burden includes the time needed to review instructions; to develop, acquire, install, and utilize technology and systems to collect, validate, verify, process, maintain, disclose, and provide information; to train personnel and to be able to respond to a collection of information, search data sources, complete and review the collection of information; and transmit or otherwise disclose the information. All written comments will be available for public inspection on regulations.gov.

Yasmeen Shaheen-McConnell,
Senior Advisor for Partnerships.

[FR Doc. 2024-05514 Filed 3-14-24; 8:45 am]

BILLING CODE 6050-28-P